DEPARTMENT OF JUSTICE

Office of Justice Programs

[OMB Number 1121-0365]

Agency Information Collection Activities; Proposed eCollection eComments Requested; Death in Custody Reporting Act Collection

AGENCY: Office of Justice Programs, Department of Justice.

ACTION: 30-Day notice.

SUMMARY: The Department of Justice (DOJ), Bureau of Justice Assistance will be submitting the following information collection request to the Office of Management and Budget (OMB) for review and approval in accordance with the Paperwork Reduction Act of 1995.

DATES: Comments are encouraged and will be accepted for 30 days until October 8, 2021.

FOR FURTHER INFORMATION CONTACT: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of currently approved collection.

2. The Title of the Form/Collection: Death in Custody Reporting Act Collection.

3. The agency form number, if any, and the applicable component of the Department sponsoring the collection:

Form number (if applicable): DCR-1.

Quarterly Summary. This summary form requires States to either (1) identify all reportable deaths that occurred in their jurisdiction during the corresponding quarter and provide basic information about the circumstances of the death, or (2) affirm that no reportable death occurred in the State during the reporting period.

For each quarter in a fiscal year, a State must complete the Quarterly Summary (Form DCR-1) and submit it by the reporting deadline. The Quarterly Summary is a list of all reportable deaths that occurred in the State during the corresponding quarter with basic information about the circumstances of each death. If a State did not have a reportable death during the quarter, the State must so indicate on the Quarterly Summary. The reporting deadline to submit the Quarterly Summary is the last day of the month following the close of the quarter. For each quarter, BJA will send two reminders prior to the reporting deadline.

Example. The second quarter of a fiscal year is January 1-March 31. The deadline to submit the second quarter Quarterly Summary is April 30. BJA will send a reminder to States on March 31 and April 15.

Component: Bureau Justice Assistance, U.S. Department of Justice.

Form number (if applicable): DCR-1A.

Incident Report. This incident report form requires States to provide additional information for each reportable death identified in the Quarterly Summary that occurred during interactions with law enforcement personnel or while in their custody.

For each reportable death identified in the Quarterly Summary, a State must complete and submit by the same reporting deadline an Incident Report (Form DCR-1A), which contains specific information on the circumstances of the death and additional characteristics of the decedent. These include:

• The decedent's name, year of birth, gender, race, and ethnicity.

• The date, time, and location of the death.

• The law enforcement or correctional agency involved.

• Description of the manner of death.

States must answer all questions on the Incident Report before they can submit the form. If the State does not have sufficient information to complete one of the questions, then the State may select the “unknown” answer, if available, and then identify when the information is anticipated to be obtained.

Component: Bureau Justice Assistance, U.S. Department of Justice.

4. Affected public who will be asked or required to respond, as well as a brief abstract: Primary: State, Local, or Tribal Government.

Abstract: To comply with the mandate of the DCRA, the Department of Justice, Bureau of Justice Assistance, is proposing a new data collection for State Administering Agencies to collect and submit information regarding the death of any person who is detained, under arrest, or is in the process of being arrested, is en route to be incarcerated, or is incarcerated at a municipal or county jail, State prison, State-run boot camp prison, boot camp prison that is contracted out by the State, any State or local contract facility, or other local or State correctional facility (including any juvenile facility).

DOJ proposes the following plan to collect DCRA information at the end of fiscal year 2019 and beyond. The plan, which constitutes “guidelines established by the Attorney General” pursuant to section 2(a) of the DCRA, encompasses provisions specifically required by the statute.

For purposes of this notice, the term “reportable death” means any death that the DCRA or the Department's guidelines require States to report. Generally, these are deaths that occurred during interactions with law enforcement personnel or while the decedent was in their custody or in the custody, under the supervision, or under the jurisdiction of a State or local law enforcement or correctional agency, such as a jail or prison. Specifically, the DCRA requires States to report “information regarding the death of any person who is detained, under arrest, or is in the process of being arrested, is en route to be incarcerated, or is incarcerated at a municipal or county jail, State prison, State-run boot camp prison, boot camp prison that is contracted out by the State, any State or local contract facility, or other local or State correctional facility (including any juvenile facility).” 34 U.S.C. 60105(a).

Please note that the DCRA information that States submit to the Department must originate from official government records, documents, or personnel.

The DCRA requires quarterly reporting. Beginning with the first quarter of FY 2020 (October 2019), quarterly DCRA reporting to BJA will include all reportable deaths—deaths occurring during interactions with law enforcement personnel or while in their custody and deaths in jail, prison, or detention settings. (i.e., deaths reportable on Form DCR-1).

5. An estimate of the total number of respondents and the amount of time estimated for an average respondent to respond: For purposes of this collection, the term “State” includes any State of the United States, the District of Columbia, the Commonwealth of Puerto Rico, the Virgin Islands, American Samoa, Guam, and the Northern Mariana Islands. Thus, the affected public that will be asked to respond on a quarterly basis each federal fiscal year includes 56 State and Territorial actors. These States will be requesting information from approximately 19,450 State and local law enforcement agencies (LEAs), 56 State and Territorial departments of corrections, and 2,800 local adult jail jurisdictions.

6. An estimate of the total public burden (in hours) associated with the collection: For purposes of this burden calculation, it is estimated that for each fiscal year there will be a total of 1,900 reportable deaths by 1,060 LEAs, 1,053 reportable deaths by 600 jails, and 3,483 reportable deaths by prisons.

For FY 2020 and beyond, the total projected respondent burden is 13,756.49 hours. States will need an estimated 4.00 hours to complete each Quarterly Summary for a total of 4,480.00 hours, 0.25 hours to complete each corresponding Incident Reports (DCR-1A) for a total of 1,713.49 hours. For LEAs, the estimated burden to assist States in completing the Quarterly Summaries is 0.40 hours per Report for a total of 1,696.00 hours, and a total of 1,425.00 hours, at 0.75 hours for each corresponding Incident Report. The estimated burden for jails is a total of 960.00 hours to assist States in completing the Quarterly Summaries and 789.75 hours in completing Incident Reports. Finally, the estimated burden for prisons to assist States in completing the Quarterly Summaries is a total of 80.00 hours, and a total of 2,612.25 hours to assist States in completing Incident Reports.

If additional information is required contact: Melody Braswell, Department Clearance Officer, United States Department of Justice, Justice Management Division, Policy and Planning Staff, Two Constitution Square, 145 N Street NE, 3E.405A, Washington, DC 20530.

Dated: September 2, 2021.
Melody Braswell,
Department Clearance Officer for PRA, U.S. Department of Justice.

[FR Doc. 2021-19400 Filed 9-7-21; 8:45 am]

BILLING CODE 4410-18-P